ENVIRONMENTAL PROTECTION AGENCY

[EPA-HQ-OECA-2013-0340; FRL-9901-67-OEI]

Information Collection Request Submitted to OMB for Review and Approval; Comment Request; NESHAP for Stationary Reciprocating Internal Combustion Engines (Renewal)

AGENCY: Environmental Protection Agency (EPA).

ACTION: Notice.

SUMMARY: The Environmental Protection Agency has submitted an information collection request (ICR), “NESHAP for Stationary Reciprocating Internal Combustion Engines (Renewal)” (EPA ICR No. 1975.09, OMB Control No. 2060-0548) to the Office of Management and Budget (OMB) for review and approval in accordance with the Paperwork Reduction Act (44 U.S.C. 3501 et seq.). This is a proposed extension of the ICR, which is currently approved through November 30, 2013. Public comments were previously requested via the Federal Register (78 FR 33409) on June 4, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before November 22, 2013.

ADDRESSES: Submit your comments, referencing Docket ID Number EPA-HQ-OECA-2013-0340, to: (1) EPA online, using www.regulations.gov (our preferred method), by email to: docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Learia Williams, Monitoring, Assistance, and Media Programs Division, Office of Compliance, Mail Code 2227A, Environmental Protection Agency, 1200 Pennsylvania Ave. NW., Washington, DC 20460; telephone number: (202) 564-4113; fax number: (202) 564-0050; email address: williams.learia@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: The respondents to this information collection are owners or operators of existing spark ignition (SI) engines that have a site rating of less than or equal to 500 brake hp and located at major sources of hazardous air pollutants (HAP) and existing stationary SI engines located at area sources of HAP emissions. The information is requested by the Agency to determine compliance with the rule. The information will then be used by enforcement agencies to verify that sources subject to the standards are meeting the emission reductions mandated by the Clean Air Act (CAA). Other sizes/types of stationary reciprocating internal combustion engines (RICE) have been regulated under previous actions. Thus, this final action fulfills the requirements of section 112 of the CAA, which requires EPA to promulgate standards for stationary RICE, by adding requirements for the remaining engines.

Form Numbers: None.

Respondents/affected entities: Owners or operators of stationary reciprocating internal combustion engines (RICE).

Respondent's obligation to respond: Mandatory (40 CFR part 63, subpart ZZZZ).

Estimated number of respondents: 902,791 (total).

Frequency of response: Initially, quarterly, semiannually, and annually.

Total estimated burden: 3,427,264 hours (per year). Burden is defined at 5 CFR 1320.3(b).

Total estimated cost: $424,877,556 (per year), includes $27,854,429 annualized capital or operation & maintenance costs.

Changes in the Estimates: There is a decrease in the total estimated burden as currently identified in the OMB Inventory of Approved Burdens. The decrease is a result of merging the reporting and recordkeeping requirements for the initial and amendment NESHAP and removing any duplicative burden items. This ICR combines the original final rule and the 2006, 2008, and 2010 amendments, which were previously covered under EPA ICR Number 1975.04, 1975.05, 1975.06, 1975.07, and 1975.08. In addition, this ICR incorporates the requirements for emergency engines as set forth in the January 2013 Final Rule amendment. This resulted in several changes in the total estimated burden and costs.

John Moses,
Director, Collection Strategies Division.

[FR Doc. 2013-24793 Filed 10-22-13; 8:45 am]

BILLING CODE 6560-50-P